DEPARTMENT OF HEALTH AND HUMAN SERVICES

National Institutes of Health

Submission for OMB Review; Comment Request; Outcome Evaluation of the Small Grants Program for Behavioral Research in Cancer Control

SUMMARY: Under the provisions of section 3507(a)(1)(D) of the Paperwork Reduction Act of 1995, the (National Cancer Institute), the National Institutes of Health has submitted to the Office of Management and Budget (OMB) a request to review and approve the information collection listed below. This proposed information collection was previously published in the Federal Register on August 31, 2004, page 53079 and allowed 60 days for public comment. No public comment was received. The purpose of this notice is to allow an additional 30 days for public comment. The National Institutes of Health may not conduct or sponsor, and the respondent is not required to respond to, an information collection that has been extended, revised, or implemented on or after October 1, 1995, unless it displays a currently valid OMB control number.

Proposed Collection: Title: Outcome Evaluation of the Small Grants Program for Behavioral Research in Cancer Control. Type of Information Collection Request: New. Need and Use of Information Collection: The Small Grants Program support projects that can be completed in a short period of time, such as pilot projects, development and testing of new methodologies, secondary data analyses, or innovative studies that provide a basis for more extended research. This evaluation is being conducted to identify progress of this program in establishing a cohort of scientists with a high level of research expertise in behavioral research cancer control. A primary objective of this study is to determine if the program's small grants R03 funding mechanism is effective in attracting investigators to the field of behavioral research and if so, what impact does the program have on the career of successful applicants. The findings will provide valuable information regarding (1) effectiveness of the program in attracting investigators to the field; (2) the impact of the program on investigators careers; and (3) the overall benefit provided by the program through the R03 funding mechanism and assist the agency in determining whether changes to the program are necessary in future. Frequency of Response: On occasion. Affected Public: Individuals; teaching institutions or other non-profit. Type of Respondents: Grantees funded under PAR 99-006 (n = 80). Type of Respondents: Principal Investigator awarded grants funded by PAR 00-006 (Dec. 1999-Nov. 2001); Estimated Number of Respondents: 80; Estimated Number of Response Per Respondent: 1; Average Burden Hours Per Response: 75; and Estimated Total Annual Burden Hours Requested: 60.

Type of respondents | Estimated number of respondents | Estimated number of responses per respondent | Average burden per response (in hours) | Total burden (in hours)
Principal Investigators awarded grants funded by PAR 99-006 (Dec. 1999-Nov. 2001) | 80 | 1 | 0.75 | 60.0
Total |  |  |  | 60.0

There is no cost to respondents. There are no Capital Costs to report. There are no Operating or Maintenance Costs to report.

Request for Comments: Written comments and/or suggestions from the public and affected agencies are invited on one or more of the following points: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information those who are able to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Veronica Chollette, RN, MS Program Director, Applied Cancer Screening Research Branch, Behavioral Research Program Division of Cancer Control and Population Sciences, National Cancer Institute, 6130 Executive Blvd., Room 4100, Rockville, MD 20852 or call non-toll free number 301-435-2837 or e-mail your request to: vc24a@nih.gov.

Comments Due Date: Comments regarding this information collection are best assured of having their full effect if received within 30 days of the date of this publication.

Dated: March 21, 2005.
Rachelle Ragland-Greene,
NCI Project Clearance Liaison, National Institutes of Health.

[FR Doc. 05-6604 Filed 4-1-05; 8:45 am]

BILLING CODE 4140-01-M